DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Trackside Investments

[Docket Number FRA-2010-0012]

The Trackside Investments, LLC (Trackside) petitioned FRA for relief from the requirements of 49 CFR 223.15(c) Existing passenger cars for ten (10) passenger cars. All of the passenger cars carry the same reporting mark (OHCR) and are numbered: 3208, 5443, 5444, 5499, 5582, 5583, 5584, 5595, 5642, and 9300. They were built by the Canadian Car and Foundry Company in 1954, and used by VIA Rail Canada until the mid-1990's, in long distance passenger service.

The equipment does not meet the definition of “antiquated” equipment. FRA's long-standing definition of “antiquated” applies to equipment to built prior to the end of World War II. In this case, even though the above listed equipment is used on in tourist/excursion/educational service, relief from the Federal safety glazing requirements is required because the cars were built in 1954. The cars are equipped with double pane, sealed laminated safety glass, with certain windows marked as emergency exits. Also, the cars have emergency tools and instructional signage to break the marked windows, as installed by VIA Rail.

The above referenced passenger cars and cabooses have occasionally been leased for excursion service purposes to similar organizations in the Midwest region of the United States, and Trackside proposes to continue this practice in the future. In all instances, the excursion trains operate through urban, rural and wooded areas. The coaches are used at speeds up to and including 45 mph. There have been no reported incidents of stoning or acts of vandalism against the excursion trains. Trackside believes that the cost to retrofit these cars is not economically feasible due to the limited annual use of the cars and low exposure to vandalism. For example, the average use of these cars over the past 24 months was approximately 30 service days.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0012) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on August 17, 2010.
Robert C. Lauby,
Deputy Associate Administrator for Regulatory and Legislative Operations.

[FR Doc. 2010-20979 Filed 8-23-10; 8:45 am]

BILLING CODE 4910-06-P